DEPARTMENT OF THE INTERIOR

Bureau of Land Management

[NV-060-1990]

Notice of Intent To Prepare an Environmental Impact Statement to Analyze the Proposed Pediment Plan of Operations

AGENCY: Bureau of Land Management, Interior.

Cooperating Agencies: Nevada Division of Wildlife.

ACTION: Notice of Intent to Prepare an Environmental Impact Statement to analyze the Proposed Pediment Project Plan of Operations for Cortez Gold Mines and notice of public scoping meetings.

SUMMARY: Pursuant to section 102(2)(c) of the National Environmental Policy Act of 1969 (NEPA), 40 Code of Federal Regulations 1500-1508 Council on Environmental Quality Regulations, and 43 Code of Federal Regulations 3809, the Bureau of Land Management's Battle Mountain Field Office will be directing the preparation of a third-party Environmental Impact Statement (EIS) to analyze a proposed new open pit, heap leach facility, and ancillary facilities. The project will involve public and private lands in Lander County, Nevada.

DATES: Written comments must be post-marked or otherwise delivered by 4:30 p.m. on June 24, 2002. Comments may also be presented at public meetings to be held:

June 5, 2002 (7-9 p.m.), Community Center in Crescent Valley, NV

June 6, 2002 (7-9 p.m.) BLM Battle Mountain Field Office, Battle Mountain, NV

ADDRESSES: Written comments should be addressed to the Bureau of Land Management, Battle Mountain Field Office, Attention: Pam Jarnecke, 50 Bastian Road, Battle Mountain, Nevada 89820.

FOR FURTHER INFORMATION CONTACT: Pam Jarnecke, Battle Mountain BLM, at (775) 635-4144.

SUPPLEMENTARY INFORMATION: The purpose of these meetings is to identify potentially significant issues to be addressed in the EIS, to determine the scope of issues to be addressed, to identify viable alternatives, and to encourage public participation in the NEPA process. Additional briefings will be considered, as appropriate.

Comments, including names and street addresses of respondents, will be available for public review at the Battle Mountain Field Office located in Battle Mountain, Nevada, during regular business hours, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Cortez Gold Mines has submitted a proposal to develop a mining facility approximately 40 miles south of Beowawe in Lander County, Nevada. The proposed mining development would involve 1,766 acres of disturbance including a new open pit, a new heap leach facility, new waste rock dumps, widening a portion of the Horse Canyon haul road to 150 feet, and relocation of a portion of the county road that is within the project area.

Gerald M. Smith,
Field Manager, Battle Mountain Field Office.

[FR Doc. 02-11869 Filed 5-10-02; 8:45 am]

BILLING CODE 4310-HC-P